DEPARTMENT OF JUSTICE

[OMB Number 1105-0030]

Agency Information Collection Activities; Proposed eCollection eComments Requested; Revision of a Previously Approved Collection; Electronic Applications for the Attorney General's Honors Program and the Summer Law Intern Program (HP/SLIP)

AGENCY: Office of Attorney Recruitment and Management, Justice Management Division, Department of Justice.

ACTION: 60-Day notice.

SUMMARY: The Office of Attorney Recruitment and Management, Department of Justice (DOJ), will be submitting the following information collection request to the Office of Management and Budget (OMB) for review and approval in accordance with the Paperwork Reduction Act of 1995.

DATES: Comments are encouraged and will be accepted for 60 days until May 23, 2025.

FOR FURTHER INFORMATION CONTACT: If you have additional comments especially on the estimated public burden or associated response time, suggestions, or need a copy of the proposed information collection instrument with instructions or additional information, please contact Deana Willis, Assistant Director, Office of Attorney Recruitment and Management, c/o Rae Ross, 450 5th Street NW, Suite 10200, Washington, DC, 20530, 202-514-8900, Deana.Willis@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Candidates enter information pertinent to legal employment on a series of electronic screens (the number of screens varies by Program; hiring organizations vary by year). The data is then certified and submitted into a database for OARM review and transmission to the components that consider the candidates for legal employment. The candidate is automatically notified by email that his/her application has been received when he/she certifies and submits his/her electronic application, and provided other hiring status updates throughout the hiring cycle.

In compliance with the Executive Order issued January 20, 2025, (https://www.whitehouse.gov/presidential-actions/2025/01/defending-women-from-gender-ideology-extremism-and-restoring-biological-truth-to-the-federal-government/), the voluntary demographic question on the HP/SLIP application is revised to reflect “Sex” with the responses “Male,” “Female” or “Decline to Answer,” removing references to gender identity and sexual orientation. There is no impact on the public burden or cost.

OARM, in coordination with hiring offices, periodically reviews questions relating to qualifications and experience to ensure their focus and criteria remains relevant (e.g., assists hiring officials evaluate written or oral communication skills, public service interest, relevant experience, etc.).

• Hiring officials requested the addition of two “yes/no” questions relating to written or oral communication skills for SLIP applicants. This change is limited to the questions presented to eligible applicants to the Summer Law Intern Program, who often have limited objective law school accomplishments at the time they apply. There is de minimis impact on the public burden and no impact on cost.

• In addition, hiring officials requested modification to an existing “check the box” question presented to all applicants clarifying the type of public service experience responsive to the question. There is no impact on the public burden or cost to this change.

• A new “check the box” question relating to relevant experience was added. There is de minimis impact on the public burden and no cost to this change.

The estimate of annualized cost to the federal government decreased from $54,000 to $39,885.

Overview of this information collection:

1. Type of Information Collection: Revision of a previously approved collection.

2. The Title of the Form/Collection: Electronic Applications for the Attorney General's Honors Program and the Summer Law Intern Program.

3. The agency form number, if any, and the applicable component of the Department sponsoring the collection: N/A

4. Affected public who will be asked or required to respond, as well as the obligation to respond: Affected Public- Individuals. The obligation to respond is voluntary.

5. An estimate of the total number of respondents and the amount of time estimated for an average respondent to respond: An estimated 2428 candidates apply to the HP & SLIP annually. It is estimated that the electronic application takes approximately one hour to complete and submit. It is further estimated that it takes an average of an additional 45 minutes to review the instructions, search existing data sources, gather and maintain the data needed, and complete and review the information collected. In addition, approximately 600 HP applicants will complete the Virtual Interview Scheduling form. Each Interview Scheduling Form will take approximately 10 minutes to complete. Thus, the annual burden would be 4349 hours based on 2428 applicants (the average number of applications received in the last several years) × 1.75 response hours (estimated time to collect the appropriate information and complete the Program application) plus 100 hours (time for 600 HP candidates to complete the Virtual Interview Scheduling Form).

6. An estimate of the total annual burden (in hours) associated with the collection: The total annual burden hours for this collection is 4349 hours.

7. An estimate of the total annual cost burden associated with the collection, if applicable: $39,885.

Total Burden Hours
Activity | Number of respondents | Frequency (annually) | Total annual responses | Time per response (minutes) | Total annual burden (hours)
Electronic application (individuals) | 2,428 | 1 | 2,428 | 105 | 4,249
Virtual Interview Scheduling Form (Individuals) | 600 | 1 | 600 | 10 | 100
Unduplicated Totals | 3,028 |  | 3,028 |  | 4,349

If additional information is required contact: Darwin Arceo, Department Clearance Officer, United States Department of Justice, Justice Management Division, Policy and Planning Staff, Two Constitution Square, 145 N Street NE, 4W-218, Washington, DC.

Dated: March 19, 2025.
Darwin Arceo,
Department Clearance Officer for PRA, U.S. Department of Justice.

[FR Doc. 2025-04928 Filed 3-21-25; 8:45 am]

BILLING CODE 4410-PB-P